ENVIRONMENTAL PROTECTION AGENCY

[EPA-HQ-OPP-2014-0351; FRL-9910-37]

Pesticide Program Dialogue Committee; Notice of Public Meeting

AGENCY: Environmental Protection Agency (EPA).

ACTION: Notice.

SUMMARY: Pursuant to the Federal Advisory Committee Act, the Environmental Protection Agency's (EPA's) Office of Pesticide Programs is giving notice that a public meeting of the Pesticide Program Dialogue Committee (PPDC) is being planned for June 5-6, 2014. A draft agenda is under development and will be posted by May 16, 2014. On June 4, 2014, the following PPDC workgroup meetings are scheduled to meet as follows: PPDC Work Group on Integrated Pest Management; PPDC Work Group on Pollinator Protection; and PPDC Work Group on 21st Century Toxicology. All meetings are free, open to the public, and no advance registration is required.

DATES: The PPDC meeting will be held on Thursday, June 5, 2014, from 9:00 a.m. to 5:15 p.m., and Friday, June 6, 2014, from 9:00 a.m. to 12:15 p.m. The PPDC meeting and all PPDC Work Group meetings will be held at 1 Potomac Yard South, 2777 S. Crystal Drive, Arlington, VA. The PPDC meeting will be held in the lobby-level Conference Center.

On Wednesday, June 4, 2014, PPDC work group meetings are scheduled as follows: PPDC Pollinator Protection Work Group, 9:00 a.m. to 12:00 p.m. in the lobby-level Conference Center; PPDC Integrated Pest Management Work Group, 1:00 p.m. to 4:00 p.m. in the lobby level Conference Center; and PPDC 21st Century Toxicology/Integrated Testing Strategies Work Group from 1:00 p.m. to 3:00 p.m. in Conference Room N-4850, Potomac Yard North. Information regarding PPDC Work Groups is available on EPA's Web site at http://www.epa.gov/pesticides/ppdc/.

To request accommodation of a disability, please contact the person listed under FOR FURTHER INFORMATION CONTACT, preferably at least 10 days prior to the meeting, to give EPA as much time as possible to process your request.

ADDRESSES: The PPDC Meeting and PPDC Work Group meetings will be held at EPA's location at 1 Potomac Yard South, 2777 S. Crystal Drive, Arlington, VA. The PPDC meeting will be held in the lobby-level Conference Center. EPA's Potomac Yard South building is approximately 1 mile from the Crystal City Metro Station.

FOR FURTHER INFORMATION CONTACT: Margie Fehrenbach, Office of Pesticide Programs (7501P), Environmental Protection Agency, 1200 Pennsylvania Ave. NW., Washington, DC 20460-0001; telephone number: (703) 308-4775; fax number: (703) 308-4776; email address: fehrenbach.margie@epa.gov.

SUPPLEMENTARY INFORMATION:

I. General Information

A. Does this action apply to me?

This action is directed to the public in general, and may be of particular interest to persons who work in agricultural settings or persons who are concerned about implementation of the Federal Insecticide, Fungicide, and Rodenticide Act (FIFRA); the Federal Food, Drug, and Cosmetic Act (FFDCA); and the amendments to both of these major pesticide laws by the Food Quality Protection Act (FQPA) of 1996; the Pesticide Registration Improvement Act, and the Endangered Species Act. Potentially affected entities may include, but are not limited to: Agricultural workers and farmers; pesticide industry and trade associations; environmental, consumer, and farm worker groups; pesticide users and growers; animal rights groups; pest consultants; State, local, and tribal governments; academia; public health organizations; and the public. If you have questions regarding the applicability of this action to a particular entity, consult the person listed under FOR FURTHER INFORMATION CONTACT.

B. How can I get copies of this document and other related information?

The docket for this action, identified by docket identification (ID) number EPA-HQ-OPP-2014-0351, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

The Office of Pesticide Programs (OPP) is entrusted with responsibility to help ensure the safety of the American food supply, the education and protection from unreasonable risk of those who apply or are exposed to pesticides occupationally or through use of products, and general protection of the environment and special ecosystems from potential risks posed by pesticides.

The Charter for the Environmental Protection Agency's Pesticide Program Dialogue Committee (PPDC) was established under the Federal Advisory Committee Act (FACA), Public Law 92-463, in September 1995, and has been renewed every 2 years since that time. PPDC's Charter was renewed October 25, 2013, for another 2-year period. The purpose of PPDC is to provide advice and recommendations to the EPA Administrator on issues associated with pesticide regulatory development and reform initiatives, evolving public policy and program implementation issues, and science issues associated with evaluating and reducing risks from use of pesticides. It is determined that PPDC is in the public interest in connection with the performance of duties imposed on the Agency by law. The following sectors are represented on the current PPDC: Environmental/public interest and animal rights groups; farm worker organizations; pesticide industry and trade associations; pesticide user, grower, and commodity groups; Federal and State/local/tribal governments; the general public; academia; and public health organizations.

Copies of the PPDC Charter are filed with appropriate committees of Congress and the Library of Congress and are available upon request.

III. How can I request to participate in this webinar?

PPDC meetings are open to the public. Persons interested in participating in the webinar do not need to register in advance of the meeting. Public comments may be made during the public comment session of each meeting or in writing to the address listed under FOR FURTHER INFORMATION CONTACT.

List of Subjects

Environmental protection, Agricultural workers, Agriculture, chemicals, endangered species, Pollinator protection, Foods, Integrated pest management, Pesticide labels, Pesticides and pests, Public health, Spray drift, 21st century toxicology.

Dated: May 9, 2014.
Jack Housenger,
Director, Office of Pesticide Programs.

[FR Doc. 2014-11683 Filed 5-20-14; 8:45 am]

BILLING CODE 6560-50-P